NUCLEAR REGULATORY COMMISSION

Public Meeting on Regulatory Oversight of the Potential High-Level Waste Repository at Yucca Mountain, NV

AGENCY: U.S. Nuclear Regulatory Commission.

ACTION: Notice of public meeting in Tecopa, California.

SUMMARY: The U.S. Nuclear Regulatory Commission (NRC) staff will hold a public meeting to discuss regulatory oversight of the potential high-level waste repository at Yucca Mountain. The meeting is intended to foster a common understanding among the stakeholders on safety and regulatory issues, should the U.S. Department of Energy (DOE) submit a license application to the NRC for a possible geologic repository at Yucca Mountain, Nevada. The meeting will be facilitated by Francis X. Cameron, Special Counsel for Public Liaison, Office of the General Counsel, NRC.

The meeting is primarily to acquaint the public with the NRC's oversight of a potential high-level waste repository at Yucca Mountain. It will include an overview of NRC's responsibilities and preparations for evaluating the safety of a potential repository, including the protection of groundwater; and conclude with an overview of the NRC's role with respect to the transportation and security of spent nuclear fuel. Several opportunities for questions will be provided. In addition, members of the NRC staff will be available for informal discussion with members of the public. The date, time, and location of the public meeting is shown below.

Date/Time: Wedneday, June 4, 2003, from 6:30 p.m.-8:30 p.m. (Pacific time).

Place: Tecopa Community Center, Hot Springs Road, Tecopa, California.

FOR FURTHER INFORMATION CONTACT: Francis X. Cameron, Special Counsel for Public Liaison, Office of the General Counsel, U.S. Nuclear Regulatory Commission, Washington DC 20555-0001, or by telephone: (301) 415-1642 or e-mail: fxc@nrc.gov.

Dated at Rockville, Maryland this 8th day of May, 2003.
For the Nuclear Regulatory Commission.
Janet R. Schlueter,
Chief, High-Level Waste Branch, Division of Waste Management, Office of Nuclear Material Safety and Safeguards.

[FR Doc. 03-12115 Filed 5-14-03; 8:45 am]

BILLING CODE 7590-01-P